DEPARTMENT OF THE INTERIOR

National Park Service

Plan of Operations, Environmental Assessment, Lake Meredith National Recreation Area, & Alibates Flint Quarries National Monument, TX

AGENCY: National Park Service, Department of the Interior.

ACTION: Notice of availability of Plan of Operations and Environmental Assessment for a 30-day public review at Lake Meredith National Recreation Area and Alibates Flint Quarries National Monument.

SUMMARY: Pursuant to Section 9.52(b) of Title 36 of the Code of Federal Regulations, Part 9, Subpart B, the National Park Service (NPS) announces the availability of a Plan of Operations, prepared by Luxor Oil and Gas, Inc., to re-enter an existing natural gas well and directionally drill a lateral sidetrack leg, at Lake Meredith National Recreation Area and Alibates Flint Quarries National Monument. The NPS has prepared an Environmental Assessment on this proposal.

DATES: The above documents are available for public review and comment for 30 days from the date of publication in the Federal Register.

ADDRESSES: The documents are available for review in the Office of the Superintendent, Karren Brown, Lake Meredith National Recreation Area, 419 E. Broadway, Fritch, Texas. Copies of the Plan of Operations are available, for a duplication fee; and copies of the Environmental Assessment are available upon request, and at no cost, from the Superintendent, Karren Brown, Lake Meredith National Recreation Area, P.O. Box 1460, Fritch, Texas 79306-1460.

FOR FURTHER INFORMATION CONTACT: Paul Eubank, Acting Chief, Resource Management, Lake Meredith National Recreation Area, telephone: 806-857-0309.

SUPPLEMENTARY INFORMATION: If you wish to submit comments on these documents within the 30 days, mail comments to the post office address provided above, or you may hand-deliver comments to the park at the street address provided above. Our practice is to make comments, including names and home addresses of responders, available for public review during regular business hours. Individual respondents may request that we withhold their home address from the decision-making record, which we will honor to the extent allowable by law. There also may be circumstances in which we would withhold from the decision-making record a respondent's identity, as allowable by law. If you wish us to withhold your name and/or address, you must state this prominently at the beginning of your comment. We will make all submissions from organizations or businesses, and from individuals identifying themselves as representatives or officials of organizations or businesses, available for public inspection in their entirety.

Dated: October 27, 2004.
John T. Crowley,
Acting Director, Intermountain Region, National Park Service.

[FR Doc. 05-3503 Filed 2-23-05; 8:45 am]

BILLING CODE 4312-KE-P